DEPARTMENT OF ENERGY

Federal Energy Regulatory Commission

[Project No. 2585-002]

Northbrook Carolina Hydro, L.L.C.; Notice of Availability of Draft Environmental Assessment

March 27, 2001.

In accordance with the National Environmental Policy Act of 1969 and the Federal Energy Regulatory Commission's (Commission's) regulations, the Office of Energy Projects has received the application filed on January 4, 1999, by Northbrook Carolina Hydro, L.L.C. (licensee) to surrender its license for the Idols Hydroelectric Project and has prepared a Draft Environmental Assessment (Draft EA) for the proposed and alternative actions.

The licensee indicates that the cost to replace the project powerhouse and generation equipment, which were destroyed in a fire on February 8, 1998, is not justified based on current and foreseeable electric power rates. The project site is situated near the town of Clemmons, a suburban area located 15 miles southwest of the City of Winston-Salem. The project does not utilize federal lands.

Copies of the Draft EA can be viewed at the Commission's Public Reference Room, Room 2A, 888 First Street, NE., Washington, DC 20426, or by calling (202) 208-1371. The document also may be viewed on the Web at www.ferc.fed.us/online/rims.htm. Call (202) 208-2222 for assistance.

Any comments on the Draft EA should be filed within 30 days from the date of this notice and should be addressed to David P. Boergers, Secretary, Federal Energy Regulatory Commission, 888 First Street NE., Washington, DC 20426. Please affix “Idols Projects Surrender of License, No. 2585-002” to the first page of your comments. Comments, protests and interventions may be filed electronically via the internet in lieu of paper. See, 18 CFR 385.2001(a)(1)(iii) and the instructions on the Commission's web site at http://www.ferc.fed.us/efi/doorbell.htm.

For further information, please contact Jim Haimes, staff environmental protection specialist, at (202) 219-2780 or at his E-mail address: james.haimes@ferc.fed.us.

David P. Boergers,
Secretary.

[FR Doc. 01-8005 Filed 3-30-01; 8:45 am]

BILLING CODE 6717-01-M